ENVIRONMENTAL PROTECTION AGENCY

[ER-FRL-8584-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080181, ERP No. D-FAA-F51051-OH, Port Columbus International Airport/(CMH) Project, Replacement of Runway 10R/28L, Development of a New Passenger Terminal and other Associated Airport Projects, Funding, City of Columbus, OH.

Summary: EPA expressed environmental concerns about particulate matter and noise and recommended using energy efficiency and sustainability principles. Rating EC2.

EIS No. 20080202, ERP No. D-COE-F09805-WI, Wisconsin Power and Light 300 MW Power Plant, Construction and Operation of a 300 Megawatt (MW) Baseload Coal-Fired Electric Generating Unit, Nelson Dewey Generating Station, near Cassville, Grant County, WI.

Summary: EPA expressed environmental concerns about surface water quality, ground water hydrology and air emission impacts, and recommends additional information on effects of the lateral collector well; impacts from dredging for a new barge facility; air emissions control technology; and cumulative impacts on water and air quality. Rating EC2.

EIS No. 20080229, ERP No. D-AFS-K65341-AZ, Black River Exchange Project, Proposal to Exchange Federal and Non-Federal Lands, Apache-Sitgreaves National Forests, Apache County, AZ.

Summary: EPA has no objections to the proposed project. Rating LO.

Final EISs

EIS No. 20080055, ERP No. F-AFS-A65177-00, National Forest System Land Management Planning, Implementation, Proposed Land Management Planning Rule at 36 CFR part 219 to Finish Rulemaking.

Summary: EPA continues to have environmental concerns about monitoring goals, and adaptive management.

EIS No. 20080205, ERP No. FR-FHW-G40178-TX, Grand Parkway/TX-99 Segment F-1 Highway Construction, U.S. 290 to TX-249, Funding and US Army COE Section 404 Permit Issuance, Harris, Montgomery, Fort Bend, Liberty, Brazoria, Galveston and Chambers Counties, TX.

Summary: No formal comment letter was sent to the preparing agency.

EIS No. 20080158, ERP No. FS-IBR-K39079-CA, Environmental Water Account (EWA) Project, Preferred Alternative is Fixed Purchase Alternative, Provide an Evaluation of 2004 Final EIS/EIR Environmental Water Account (EWA) and Effects Associated with Extending the Current EWA's through 2011, CA.

Summary: While EPA continues to have environmental concerns about the proposal, EPA concurs with a short-term and adaptable approach to the Environmental Water Account Project.

Dated: July 22, 2008.
Ken Mittelholtz,
Environmental Protection Specialist, Office of Federal Activities.

[FR Doc. E8-17098 Filed 7-24-08; 8:45 am]

BILLING CODE 6560-50-P